DEPARTMENT OF DEFENSE

Department of the Air Force

[Docket ID: USAF-2011-0004]

Privacy Act of 1974; System of Records

AGENCY: Department of the Air Force, DoD.

ACTION: Notice To Alter a System of Records.

SUMMARY: The Department of the Air Force is proposing to alter a system of records notice in its existing inventory of records systems subject to the Privacy Act of 1974, (5 U.S.C. 552a), as amended.

DATES: The proposed action will be effective on February 18, 2011 unless comments are received that would result in a contrary determination.

ADDRESSES: You may submit comments, identified by docket number and/Regulatory Information Number (RIN) and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Charles Shedrick, (703) 696-6488, or the Air Force Privacy Act Officer, Office of Warfighting Integration and Chief Information Officer, SAF/XCPPF, 1800 Air Force Pentagon, Washington, DC 20330-1800.

SUPPLEMENTARY INFORMATION: The Department of the Air Force systems of records notices subject to the Privacy Act of 1974, (5 U.S.C. 552a), as amended, have been published in the Federal Register and are available from the FOR FURTHER INFORMATION CONTACT address above.

The proposed systems reports, as required by 5 United States Code 552a(r) of the Privacy Act, were submitted on January 7, 2011 to the House Committee on Oversight and Government Reform, the Senate Committee on Homeland Security and Governmental Affairs, and the Office of Management and Budget pursuant to paragraph 4c of Appendix I to Office of Management and Budget Circular No. A-130, `Federal Agency Responsibilities for Maintaining Records About Individuals,' dated February 8, 1996, (February 20, 1996, 61 FR 6427).

Dated: January 11, 2011.
Morgan F. Park,
Alternate OSD Federal Register Liaison Officer, Department of Defense.

F051 AFJA C

System name:

Judge Advocate Personnel Records (December 30, 2008, 73 FR 79836).

Changes:

* * * * *

System location:

Delete entry and replace with “The Judge Advocate General, Headquarters United States Air Force, 1420 Air Force Pentagon, Washington, DC 20330-1420; Headquarters Air Force Personnel Center, 550 C Street W, Randolph Air Force Base, TX 78150; at Headquarters of major commands and all levels down to and including Air Force installations. Official mailing addresses are published as an appendix to the Air Force's compilation of systems of records notices.”

Categories of individuals covered by the system:

Delete entry and replace with “All Air Force Active Duty and Reserve/Guard Judge Advocates and paralegals; Air Force Judge Advocate Corp civilian attorneys and paralegals, including Air National Guard personnel; applicants for the Funded Legal Education Program and Excess Leave Program.”

Categories of records in the system:

Delete entry and replace with “Individual's name, Social Security Number (SSN), duty location, rank, job series, date of birth, professional and personal information related to the employment of the categories of individuals covered by this system, including educational background information.

Certificates of admission to the bar, career objective statements, active duty and reassignment orders, correspondence relating to the individual, personnel information from the Air Force Personnel Center, locator information, professional education and training records, pay records, notification of personnel actions, civilian employment records to include nomination packages, and award records.

Statement of good standing before the bar and other State Bar records, law school records, letters of acceptance from law schools, Judge Advocate General application and agreement, Law School Data Assembly Service (LSDAS) report; undergraduate and graduate education records to include transcripts of courses attended and grades, letters of recommendation; information related to attorney bar dues reimbursement requests to include loan account numbers and loan holder information.”

Authority for the maintenance of the system:

Delete entry and replace with “10 U.S.C. 8013, Secretary of the Air Force; 10 U.S.C. 8037, Judge Advocate General, Deputy Judge Advocate General: Appointment and duties; Air Force Instruction 51-802, Assignments to the Judge Advocate General's Department Reserve, Air Force Instruction 36-2110, Assignments; and E.O. 9397 (SSN), as amended.”

Purpose(s):

Delete entry and replace with “Records are used by authorized personnel in the performance of their duties to determine assignments, deployments, certifications, areas of legal practice specialties, attorney bar dues reimbursements, law school loan reimbursements; selection of civilian attorney and other civilian personnel positions, appointment to position vacancies and promotions, evaluation and performance issues and reports, and all other related personnel actions. Funded Legal Education and Excess Leave Program records are used by authorized personnel in the performance of their duties in monitoring, evaluating and selecting the qualified applicants for these programs and other programs as necessary.”

* * * * *

Storage:

Delete entry and replace with “Maintained in paper and electronic storage media.”

Retrievability:

Delete entry and replace with “Retrieved by name and or Social Security Number (SSN), duty location, rank, and or job series.”

* * * * *

Retention and disposal:

Delete entry and replace with “Records are retained for three (3) years after separation, termination of employment, or when no longer needed. Paper records are disposed of by tearing into pieces, shredding, pulping, macerating or burning. Computer records are destroyed by deleting, erasing, degaussing, or by overwriting.”

* * * * *

Notification procedures:

Delete entry and replace with “Individuals seeking to determine whether information about themselves is contained in this system of records should address written inquiries to the Judge Advocate General, Headquarters United States Air Force, 1420 Air Force Pentagon, Washington, DC 20330-1420.

For verification purposes, individuals should provide their full name, Social Security Number (SSN), any details, which may assist in locating records, and their signature. In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with, “Individuals seeking to access records about themselves contained in this system should address written requests to the Judge Advocate General, Headquarters United States Air Force, 1420 Air Force Pentagon, Washington, DC 20330-1420.

For verification purposes, individuals should provide their full name, Social Security Number (SSN), any details, which may assist in locating records, and their signature. In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

* * * * *

F051 AFJA C

System name:

Judge Advocate Personnel Records.

System location:

The Judge Advocate General, Headquarters United States Air Force, 1420 Air Force Pentagon, Washington, DC 20330-1420; Headquarters Air Force Personnel Center, 550 C Street W, Randolph Air Force Base, TX 78150; at Headquarters of major commands and all levels down to and including Air Force installations. Official mailing addresses are published as an appendix to the Air Force's compilation of systems of records notices.

Categories of individuals covered by the system:

All Air Force Active Duty and Reserve/Guard Judge Advocates and paralegals; Air Force Judge Advocate Corp civilian attorneys and paralegals, including Air National Guard personnel; applicants for the Funded Legal Education Program and Excess Leave Program.

Categories of records in the system:

Individual's name, Social Security Number (SSN), duty location, rank, job series, date of birth, professional and personal information related to the employment of the categories of individuals covered by this system, including educational background information.

Certificates of admission to the bar, career objective statements, active duty and reassignment orders, correspondence relating to the individual, personnel information from the Air Force Personnel Center, locator information, professional education and training records, pay records, notification of personnel actions, civilian employment records to include nomination packages, and award records.

Statement of good standing before the bar and other State Bar records, law school records, letters of acceptance from law schools, Judge Advocate General application and agreement, Law School Data Assembly Service (LSDAS) report; undergraduate and graduate education records to include transcripts of courses attended and grades, letters of recommendation; information related to attorney bar due reimbursement requests to include loan account numbers and loan holder information.

Authority for maintenance of the system:

10 U.S.C. 8013, Secretary of the Air Force; 10 U.S.C. 8037, Judge Advocate General, Deputy Judge Advocate General: Appointment and duties; Air Force Instruction 51-802, Assignments to the Judge Advocate General's Department Reserve, Air Force Instruction 36-2110, Assignments; and E.O. 9397 (SSN), as amended.

Purpose(s):

Records are used by authorized personnel in the performance of their duties to determine assignments, deployments, certifications, areas of legal practice specialties, attorney bar dues reimbursements, law school loan reimbursements; selection of civilian attorney and other civilian personnel positions, appointment to position vacancies and promotions, evaluation and performance issues and reports, and all other related personnel actions. Funded Legal Education and Excess Leave Program records are used by authorized personnel in the performance of their duties in monitoring, evaluating and selecting the qualified applicants for these programs and other programs as necessary.

Routine uses of records maintained in the system, including categories of users and the purposes of such uses:

In addition to those disclosures generally permitted under 5 U.S.C. 552a(b) of the Privacy Act of 1974, these records contained therein, may specifically be disclosed outside the DoD as a routine use pursuant to 5 U.S.C. 552a(b)(3) as follows:

To Federal and State agencies or bar associations charged with licensing and authorizing attorneys to practice law, and to courts authorizing attorneys to practice before said courts. To other government, State, and local licensing authorities, such as State Bar offices, in the course of their official duties.

The DoD `Blanket Routine Uses' published at the beginning of the Air Force's compilation of systems of records notices apply to this system.

Storage:

Maintained in paper and electronic storage media.

Retrievability:

Retrieved by name and or Social Security Number (SSN), duty location, rank, and or job series.

Safeguards:

Records are accessed by person(s) responsible for servicing the record system in performance of their official duties and by authorized personnel who are properly screened and cleared for need-to-know. Records are stored in locked rooms and cabinets. Those in computer storage devices are protected by computer system software. Computers must be accessed with the use of a Common Access Card (CAC) and password.

Retention and disposal:

Records are retained for three (3) years after separation, termination of employment, or when no longer needed. Paper records are disposed of by tearing into pieces, shredding, pulping, macerating or burning. Computer records are destroyed by deleting, erasing, degaussing, or by overwriting.

System manager(s) and address:

Office of the Judge Advocate General, Headquarters United States Air Force, 1420 Air Force Pentagon, Washington, DC 20330-1420.

Notification procedure:

Individuals seeking to determine whether information about themselves is contained in this system of records should address written inquiries to the Judge Advocate General, Headquarters United States Air Force, 1420 Air Force Pentagon, Washington, DC 20330-1420.

For verification purposes, individuals should provide their full name, Social Security Number (SSN), any details, which may assist in locating records, and their signature. In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Record access procedures:

Individuals seeking to access records about themselves contained in this system should address written requests to the Judge Advocate General, Headquarters United States Air Force, 1420 Air Force Pentagon, Washington, DC 20330-1420.

For verification purposes, individual should provide their full name, Social Security Number (SSN), any details, which may assist in locating records, and their signature. In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Contesting record procedures:

The Air Force rules for accessing records, and for contesting contents and appealing initial agency determinations are published in Air Force Instruction 33-332; 32 CFR Part 806b; or may be obtained from the system manager.

Record source categories:

Information obtained directly from the individual or from previous employers, educational institutions, automated system interfaces, State and local governments, State bar associations, and from military personnel centers.

Exemptions claimed for the system:

None.

[FR Doc. 2011-963 Filed 1-18-11; 8:45 am]

BILLING CODE 5001-06-P